NUCLEAR REGULATORY COMMISSION

Advisory Committee on Nuclear Waste and Materials; Meeting Notice

The Advisory Committee on Nuclear Waste and Materials (ACNW&M) will hold its 183rd meeting on October 16-18, 2007, Room T-2B3, 11545 Rockville Pike, Rockville, Maryland.

Tuesday, October 16, 2007

8:30 a.m.-8:35 a.m.: Opening Remarks by the ACNW&M Chairman (Open)—The Chairman will make opening remarks regarding the conduct of today's sessions.

ACNW&M Working Group Meeting on Preclosure Seismic Analysis Evaluation at the Proposed Yucca Mountain, Nevada, Repository

Purpose

The purpose of this Working Group Meeting is to understand the regulatory framework, and associated acceptance criteria, to be used by the staff in their analysis of pre-closure seismic hazards at the proposed Yucca Mountain repository site. This information will be compared with the processes used to determine seismic safety at other types of NRC-licensed nuclear facilities (e.g., nuclear power plants, independent spent fuel storage installations, and fuel fabrication facilities).

8:35 a.m.-8:45 a.m.: Greetings and Introductions (Open)—Dr. William Hinze, the cognizant ACNW&M Member for this meeting topic will provide an overview of the expected goals for the Working Group Meeting, the planned technical sessions, and introduce the invited panelists and speakers.

8:45 a.m.-9 a.m.: Overview of the Development of NRC's Seismic Regulations (Open)—The Committee will hear an overview by an ACNW&M staff member on the development of NRC's Seismic Regulations.

9 a.m.-9:30 a.m.: Current Seismic Design Requirements for Nuclear Power Plants (Open)—The Committee will be briefed by a representative of the NRC Office of Nuclear Reactor Regulation on the current seismic design requirements for nuclear power plants.

9:30 a.m.-9:45 a.m.: Pre-Closure Seismic Design Requirements for the Yucca Mountain HLW Repository (Open)—The Committee will be briefed by a representative of the NRC Office of Nuclear Material Safety and Safeguards (NMSS) on the pre-closure seismic design requirements for the Yucca Mountain HLW repository.

9:45 a.m.-10 a.m.: Interim Staff Guidance, “Review Methodology for Seismically Initiated Event Sequences”—DHLWRS-ISG-01 (Open)—The Committee will be briefed by a representative of the Office of NMSS on the interim staff guidance, “Review Methodology for Seismically Initiated Event Sequences.”

10 a.m.-10:30 a.m.: American Society of Civil Engineers Standard ASCE/SEI 43-0-5 (Open)—The speaker is yet to be determined. This topic may be removed or modified.

10:45 a.m.-11:15 a.m.: Current Seismic Design Requirements for MOX Facilities (Open)—The Committee will be briefed by a representative of the Center for Nuclear Waste Regulatory Analyses on the current seismic design requirements for MOX facilities.

11:15 a.m.-12:15 p.m.: Stakeholders and Public Comments (Open)

1:30 p.m.-2:30 p.m.: Roundtable Discussion (Open)—Scheduled participants are expected to include representatives from Nuclear Waste Technical Review Board (NWTRB) and NRC Office of Nuclear Regulatory Research.

2:30 p.m.-2:45 p.m.: Closing Remarks (Open)—By Dr. William J. Hinze.

3 p.m.-5 p.m.: GE-Hitachi Nuclear Energy (GE-H) Spent Nuclear Fuel (SNF) Recycling Processes (Open)—The Committee will hear presentations from representatives of GE-H regarding an overview of their advanced SNF recycling processes.

Wednesday, October 17, 2007

8 a.m.-8:05 a.m.: Opening Remarks by the ACNW&M Chairman (Open)—The Chairman will make opening remarks regarding the conduct of today's sessions.

8:05 a.m.-12:30 p.m.: NRC's Total-System Performance Assessment (TPA) Code for Review of Performance Assessment of the Yucca Mountain Site (Open)—NRC staff representatives from the Office of NMSS will brief the Committee on the newly released version of the staff's TPA code (Version 5.1). This updated tool will support the staff's review of an impending license application for the proposed Yucca Mountain repository site.

1:30 p.m.-3 p.m.: Draft Proposed Rule/Guidance on Preventing Legacy Sites (Open/Closed)—NRC staff representatives from the Office of Federal and State Materials and Environmental Management Program (FSME) will brief the Committee on NRC's proposed rulemaking and guidance for prevention of decommissioning legacy sites.

Note: A portion of this session may be closed to discuss pre-decisional documents pursuant to 5 U.S.C. 552b(c)(9)(B)

3 p.m.-4 p.m.: Preparation for Meeting with NRC Commissioners (Open)—The Committee will discuss and approve the viewgraphs for the ACNW&M briefing to the NRC Commissioners, scheduled for Wednesday, November 14, 2007.

Thursday, October 18, 2007

8:30 a.m.-8:35 a.m.: Opening Remarks by the ACNW&M Chairman (Open)—The Chairman will make opening remarks regarding the conduct of today's sessions.

8:35 a.m.-9:35 a.m.: Mallinckrodt Site Decommissioning Plan (Open)—The Committee will be briefed by representatives of the NRC staff from the Office of FSME on decommissioning of the Mallinckrodt Chemical, Inc. site, in St. Louis, Missouri.

9:35 a.m.-10:35 a.m.: Vendor's Views on the Transportation-Aging-Disposal (TAD) Performance Specifications (Open)—A representative from Holtec International, a commercial vendor, will brief the Committee on their views on the TAD Performance Specifications, possible challenges the vendor may be facing, and suggestions for expediting NRC approval of a TAD license application.

10:35 a.m.-12 p.m.: Discussion of ACNW&M Letter Reports (Open)—The Committee will discuss potential and proposed ACNW&M letter reports.

1 p.m.-2:30 p.m.: Revision of NUREG-1854, NRC Staff Guidance for Activities Related to U.S. Department of Energy Waste Determinations—Draft Final Report for Interim Use (Open)—NRC staff representatives from the Office of FSME will brief the Committee on how the public comments on the draft guidance were resolved.

2:30 p.m.-4:30 p.m.: Discussion of Proposed and Potential ACNW&M Letter Reports (Open)—The Committee will continue discussion of proposed ACNW&M letter reports.

4:30 p.m.-5 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on September 26, 2007 (72 FR 54693). In accordance with those procedures, oral or written views may be presented by members of the public. Electronic recordings will be permitted only during those portions of the meeting that are open to the public. Persons desiring to make oral statements should notify Dr. Antonio F. Dias (Telephone 301-415-6805), between 8:15 a.m. and 5 p.m. (ET), as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

In accordance with Subsection 10(d) Public Law 92-463, I have determined that it may be necessary to close a portion of this meeting noted above to discuss pre-decisional documents pursuant to 5 U.S.C. 552b(c)(9)(B).

Further information regarding topics to be discussed, whether the meeting has been canceled or rescheduled, as well as the Chairman's ruling on requests for the opportunity to present oral statements and the time allotted therefore can be obtained by contacting Dr. Dias.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/acnw (ACNW&M schedules and agendas).

Video teleconferencing service is available for observing open sessions of ACNW&M meetings. Those wishing to use this service for observing ACNW&M meetings should contact Mr. Theron Brown, ACRS/ACNW&M Audio Visual Assistant (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: September 28, 2007.
Annette L. Vietti-Cook,
Secretary of the Commission.

[FR Doc. E7-19618 Filed 10-3-07; 8:45 am]

BILLING CODE 7590-01-P